DEPARTMENT OF THE INTERIOR

Bureau of Land Management

[WY-920-1320-EL, WYW161763]

Coal Lease Exploration License, WY

AGENCY: Bureau of Land Management, Interior.

ACTION: Notice of invitation for coal exploration license.

SUMMARY: Pursuant to section 2(b) of the Mineral Leasing Act of 1920, as amended by section 4 of the Federal Coal Leasing Amendments Act of 1976, 90 Stat. 1083, 30 U.S.C. 201 (b), and to the regulations adopted at 43 CFR part 3410, all interested parties are hereby invited to participate with Powder River Coal Company on a pro rata cost sharing basis in its program for the exploration of coal deposits owned by the United States of America in the following-described lands in Campbell County, WY:

T. 48 N., R. 71 W., 6th P.M., Wyoming;

Sec. 7: Lot 12;

Sec. 8: Lots 10;

Sec. 17: Lots 1-4, 6-10, 16; Containing 489.43 acres, more or less.

All of the coal in the above-described land consists of unleased Federal coal within the Powder River Basin Known Recoverable Coal Resource Area. The purpose of the exploration program is to obtain data for the purpose of obtaining structural and quality information needed to identify coal reserves that may be used in the Gold Mine Draw Alluvial Valley Floor Exchange application that was filed August 15, 2003, by Powder River Coal Company.

ADDRESSES: The proposed exploration program is fully described and will be conducted pursuant to an exploration plan to be approved by the Bureau of Land Management. Copies of the exploration plan are available for review during normal business hours in the following offices (serialized under number WYW161763): Bureau of Land Management, Wyoming State Office, 5353 Yellowstone Road, P.O. Box 1828, Cheyenne, WY 82003; and, Bureau of Land Management, Casper Field Office, 2987 Prospector Drive, Casper, WY 82604.

SUPPLEMENTARY INFORMATION: This notice of invitation will be published in The News-Record of Gillette, WY, once each week for two consecutive weeks beginning the week of November 22, 2004, and in the Federal Register. Any party electing to participate in this exploration program must send written notice to both the Bureau of Land Management and Powder River Coal Company no later than thirty days after publication of this invitation in the Federal Register. The written notice should be sent to the following addresses: Powder River Coal Company, Attn: Les Petersen, P.O. Box 3034, Gillette, WY 82717, and the Bureau of Land Management, Wyoming State Office, Branch of Solid Minerals, Attn: Mavis Love, P.O. Box 1828, Cheyenne, WY 82003.

The foregoing is published in the Federal Register pursuant to 43 CFR 3410.2-1(c)(1).

Phillip C. Perlewitz,
Acting Deputy State Director, Minerals and Lands.

[FR Doc. 04-28150 Filed 12-26-04; 8:45 am]

BILLING CODE 4310-22-P